DEPARTMENT OF COMMERCE

National Oceanic and Atmospheric Administration

Interagency Working Group on the Harmful Algal Bloom and Hypoxia Research and Control Amendments Act

AGENCY: National Ocean Service, National Oceanic and Atmospheric Administration, U.S. Department of Commerce.

ACTION: Notice, Webinars.

SUMMARY: The National Ocean Service (NOS) of the National Oceanic and Atmospheric Administration (NOAA) publishes this notice to announce a series of webinars designed to initiate conversation between federal representatives and stakeholders on a number of topics related to harmful algal blooms (HABs) and hypoxia, as mandated by the Harmful Algal Bloom and Hypoxia Research and Control Amendments Act of 2014 (HABHRCA). HABHRCA tasks federal agencies to advance the understanding of HAB and hypoxia events, and to respond to, detect, predict, control, and mitigate these events to the greatest extent possible.

The Interagency Working Group on HABHRCA (IWG-HABHRCA) is comprised of representatives from a number of federal agencies. Through these webinars, the group seeks to connect and speak with a wide range of stakeholders, including relevant management and planning bodies, resource officials, economists, tribal resource management officials, scientists and public health experts, industries affected by HABs and hypoxia, nonprofit groups, the general public, and others. The IWG-HABHRCA would like to consult with stakeholders on topics such as:

• Regional priorities for ecological, economic, and social research on the causes and impacts of HABs and hypoxia, needs for improved monitoring and early warning, and new approaches to prevention, control, and mitigation;

• Communication and information dissemination methods that state, tribal, and local governments may undertake to educate and inform the public concerning HABs and hypoxia; and

• Perceived needs for handling HAB and hypoxia events, as well as an action strategy for managing future situations.

DATES: See SUPPLEMENTARY INFORMATION section for meeting dates.

ADDRESSES: See SUPPLEMENTARY INFORMATION section for meeting Web addresses.

FOR FURTHER INFORMATION CONTACT: Caitlin Gould (Caitlin.gould@noaa.gov, 301-713-3020, x 174) or Stacey DeGrasse (Stacey.Degrasse@fda.hhs.gov, 240-402-1470).

SUPPLEMENTARY INFORMATION: NOAA is publishing this notice to announce a series of webinars designed to initiate conversation between federal representatives and stakeholders on a number of topics related to HABs and hypoxia, some of the most scientifically complex and economically damaging issues affecting our ability to safeguard the health of our nation's coastal and freshwater ecosystems. The IWG-HABHRCA was established to coordinate and convene with relevant federal agencies to discuss HAB and hypoxia events in the United States, and to develop a number of reports and assessments of these situations. The webinars are designed to gain information on and discuss what relevant stakeholders perceive to be their needs for handling HAB and hypoxia events, as well as an action strategy for managing future situations. All interested parties are encouraged to attend and participate. As described further below, preregistration is required to participate in these webinars.

Stakeholders are encouraged to submit comments and questions in advance of and following each webinar. Electronic comments and questions may be submitted via email (IWG-HABHRCA@noaa.gov). Written comments may be submitted to Caitlin Gould at NOAA, National Centers for Coastal Ocean Science, SSMC-4, #8234, 1305 East-West Highway, Silver Spring, MD 20910.

Meeting dates:

• National Harmful Algal Bloom and Hypoxia Webinar—March 26, 2015, 11:30 a.m.-12:30 p.m. EDT

• Regional Harmful Algal Bloom and Hypoxia Webinar—Southeast/Gulf of Mexico/Mid-Atlantic—April 2, 2015, 12:30 p.m.-1:30 p.m. EDT

• Regional Harmful Algal Bloom and Hypoxia Webinar—Inland/Great Lakes—April 22, 2015, 11:30 a.m.-12:30 p.m. EDT

• Regional Harmful Algal Bloom and Hypoxia Webinar—Northwest—April 29, 2015, 2:00 p.m.-3:00 p.m. EDT (11:00 a.m.-12:00 p.m. PDT)

• Regional Harmful Algal Bloom and Hypoxia Webinar—Northeast—April 30, 2015, 11:30 a.m.-12:30 p.m. EDT

Real-time remote access to the webinars will be available via the following options:

• National Harmful Algal Bloom and Hypoxia Webinar—

○ Internet Webinar Access: https://fda.webex.com/fda/j.php?MTID=m6e6880abb9f86af5ecba66e01c391612

Password: National

○ To view the webinar in other time zones or languages: https://fda.webex.com/fda/j.php?MTID=m9a739ad15d3ede13ca70be9894153643

Password: National

○ Teleconference Only Access:

Provide your number when you join the meeting to receive a call back.

Alternatively, you can call one of the following numbers:

• Local: 1-301-796-7777

• Toll free: 1-855-828-1770

Follow the instructions that you hear on the phone and enter Cisco Unified MeetingPlace meeting ID: 745 274 247

• Regional Harmful Algal Bloom and Hypoxia Webinar—Southeast/Gulf of Mexico/Mid-Atlantic—

○ Internet Webinar Access: https://fda.webex.com/fda/j.php?MTID=m0eac8252e84dd3993a1ea32604d1adf4

Password: Southeast

○ To view the webinar in other time zones or languages: https://fda.webex.com/fda/j.php?MTID=md5b3388c42c433729d906d6c5622d164

Password: Southeast

○ Teleconference Only Access:

Provide your number when you join the meeting to receive a call back.

Alternatively, you can call one of the following numbers:

• Local: 1-301-796-7777

• Toll free: 1-855-828-1770

Follow the instructions that you hear on the phone and enter Cisco Unified MeetingPlace meeting ID: 749 761 616

• Regional Harmful Algal Bloom and Hypoxia Webinar—Inland/Great Lakes—

○ Internet Webinar Access: https://fda.webex.com/fda/j.php?MTID=mf98ac949c431ffe04b674057de8bd809

Password: Inland

○ To view the webinar in other time zones or languages: https://fda.webex.com/fda/j.php?MTID=m1729f80ba875d8f87a0c5661d354529a

Password: Inland

○ Teleconference Only Access:

Provide your number when you join the meeting to receive a call back.

Alternatively, you can call one of the following numbers:

• Local: 1-301-796-7777

• Toll free: 1-855-828-1770

Follow the instructions that you hear on the phone and enter Cisco Unified MeetingPlace meeting ID: 741 855 825

• Regional Harmful Algal Bloom and Hypoxia Webinar—Northwest—

○ Internet Webinar Access: https://fda.webex.com/fda/j.php?MTID=m4e9bb6ef61d4f8257486d29884ff67e0

Password: Northwest

○ To view the webinar in other time zones or languages: https://fda.webex.com/fda/j.php?MTID=mea7088d04482f51a0ab659e6d9564e24

Password: Northwest

○ Teleconference Only Access:

Provide your number when you join the meeting to receive a call back.

Alternatively, you can call one of the following numbers:

• Local: 1-301-796-7777

• Toll free: 1-855-828-1770

Follow the instructions that you hear on the phone and enter Cisco Unified MeetingPlace meeting ID: 748 981 584

• Regional Harmful Algal Bloom and Hypoxia Webinar—Northeast

○ Internet Webinar Access: https://fda.webex.com/fda/j.php?MTID=m3bde49b5ce0994462f9aae9e330e1438

Password: Northeast

○ To view the webinar in other time zones or languages: https://fda.webex.com/fda/j.php?MTID=m72ded81789dedac878c7ad13429751b3

Password: Northeast

○ Teleconference Only Access:

Provide your number when you join the meeting to receive a call back.

Alternatively, you can call one of the following numbers:

• Local: 1-301-796-7777

• Toll free: 1-855-828-1770

Follow the instructions that you hear on the phone and enter Cisco Unified MeetingPlace meeting ID: 744 725 401

Persons wishing to attend the meeting online via the webinar must register in advance no later than 5 p.m. Eastern Time on the evening before each webinar, by sending an email to Caitlin.Gould@noaa.gov. The number of webinar connections available for the meetings is limited to 500 participants and will therefore be available on a first-come, first-served basis. The agenda for the webinars will include time for questions and answers or comments about the agencies' efforts in implementing HABHRCA.

Other Information:

Paperwork Reduction Act: Notwithstanding any other provision of law, no person is required to respond to, nor shall any person be subject to a penalty for failure to comply with a collection of information subject to the requirements of the Paperwork Reduction Act, unless that collection displays a currently valid OMB Control Number.

Dated: March 24, 2015.
Mary Erickson,
Director, National Centers for Coastal Ocean Science, National Ocean Service, National Oceanic and Atmospheric Administration.

[FR Doc. 2015-07247 Filed 3-27-15; 8:45 am]

BILLING CODE 3510-JE-P